DEPARTMENT OF VETERANS AFFAIRS

Advisory Committee: National Academic Affiliations Council Notice of Meeting

The Department of Veterans Affairs (VA) gives notice under Public Law 92-463 (Federal Advisory Committee Act) that a meeting of the National Academic Affiliations Council will be held via conference call on July 24, 2014, from 11:00 a.m. to 1:00 p.m. EDT. The purpose of the Council is to advise the Secretary on matters affecting partnerships between VA and its academic affiliates.

The Council will review the status of recommendations from its previous meetings and receive an update on Council plans for its fall meeting. The Council will receive public comments from 12:45 p.m. to 1:00 p.m. EDT.

Any member of the public seeking additional information should contact Gloria J. Holland, Ph.D., Special Assistant for Policy and Planning, Office of Academic Affiliations (10A2D), via email Gloria.Holland@va.gov or by phone at (202) 461-9490. The dial in number to attend the conference call is: 1-800-767-1750. At the prompt for an access code, enter 16487#. Interested persons may present oral statements to the Council. Individuals wishing to speak are invited to submit a 1-2 page summary of their comments in advance. Oral presentations will be limited to five minutes or less, depending on the number of participants.

Dated: June 30, 2014.
Jelessa M. Burney,
Federal Advisory Committee Management Officer.

[FR Doc. 2014-15661 Filed 7-2-14; 8:45 am]

BILLING CODE 8320-01-P